ENVIRONMENTAL PROTECTION AGENCY

[ER-FRL-9058-6]

Environmental Impact Statements; Notice of Availability

Responsible Agency: Office of Federal Activities, General Information 202-564-5632 or https://www.epa.gov/nepa.

Weekly receipt of Environmental Impact Statements (EIS)

Filed September 20, 2021 10 a.m. EST Through September 27, 2021 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20210146, Final, FERC, LA, East Lateral Xpress Project, Review Period Ends: 11/01/2021, Contact: Office of External Affairs 866-208-3372.

EIS No. 20210147, Final, FHWA, VA, Route 220 Martinsville Southern Connector Study, Review Period Ends: 11/01/2021, Contact: Mack Frost 804-775-3352.

EIS No. 20210148, Final, FERC, PA, East 300 Upgrade Project, Review Period Ends: 11/01/2021, Contact: Office of External Affairs 866-208-3372.

EIS No. 20210149, Draft Supplement, FHWA, MD, I-495 & I-270 Managed Lanes Study Supplemental Draft Environmental Impact Statement and Updated Draft Section 4(f) Evaluation, Comment Period Ends: 11/15/2021, Contact: Jeanette Mar 410-779-7152.

Dated: September 27, 2021.
Cindy S. Barger,
Director, NEPA Compliance Division, Office of Federal Activities.

[FR Doc. 2021-21366 Filed 9-30-21; 8:45 am]

BILLING CODE 6560-50-P